FEDERAL ELECTION COMMISSION

Sunshine Act Notices

Date and Time: Tuesday, September 12, 2006 at 10 a.m.

Place: 999 E Street, NW., Washington, DC.

Status: This meeting will be closed to the public.

Items to be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, September 14, 2006 at 10 a.m. Place: 999 E Street, NW., Washington, DC (ninth floor).

Status: This meeting will be open to the public.

Items to be Discussed: Correction and Approval of Minutes.

Advisory Opinion 2006-22: Wallace for Congress by counsel, Andrius R. Knotrimas.

Routine Administrative Matters.

FOR FURTHER INFORMATION CONTACT:

Mr. Robert Biersack, Press Officer, Telephone: (202) 694-1220.

Mary W. Dove,
Secretary of the Commission.

[FR Doc. 06-7528 Filed 9-5-06; 2:58 pm]

BILLING CODE 6715-01-M